ENVIRONMENTAL PROTECTION AGENCY

40 CFR PART 52

[EPA-R03-OAR-2012-0305; FRL-9752-7]

Approval and Promulgation of Air Quality Implementation Plans; Maryland; Deferral for CO2 Emissions From Bioenergy and Other Biogenic Sources Under the Prevention of Significant Deterioration Program; Reopening of Comment Period

AGENCY: Environmental Protection Agency (EPA).

ACTION: Proposed rule; reopening of the comment period.

SUMMARY: EPA is reopening the comment period for a notice of proposed rulemaking (NPR) published on September 7, 2012. In the NPR, EPA proposed approval of a revision to the Maryland State Implementation Plan (SIP) that would incorporate EPA's “Biomass Deferral” into the Maryland SIP. At the request of Community Research, (College Park, Maryland), EPA is reopening the comment period. Comments submitted between the close of the original comment period and the re-opening of this comment period will be accepted and considered.

DATES: The comment period for the proposed rule published on September 7, 2012 (77 FR 55171) is reopened through December 17, 2012. All comments received on or before December 17, 2012 will be entered into the public record and considered by EPA before taking final action on the proposed rule.

ADDRESSES: Submit your comments, identified by Docket ID Number EPA-R03-OAR-2012-0305 by one of the following methods:

A. www.regulations.gov. Follow the on-line instructions for submitting comments.

B. Email: cox.kathleen@epa.gov.

C. Mail: EPA-R03-OAR-2012-0305, Ms. Kathleen Cox, Associate Director, Office of Permits and Air Toxics, Mailcode 3AP10, U.S. Environmental Protection Agency, Region III, 1650 Arch Street, Philadelphia, Pennsylvania 19103.

D. Hand Delivery: At the previously-listed EPA Region III address. Such deliveries are only accepted during the Docket's normal hours of operation, and special arrangements should be made for deliveries of boxed information.

Instructions: Direct your comments to Docket ID No. EPA-R03-OAR-2012-0305. EPA's policy is that all comments received will be included in the public docket without change, and may be made available online at www.regulations.gov, including any personal information provided, unless the comment includes information claimed to be Confidential Business Information (CBI) or other information whose disclosure is restricted by statute. Do not submit information that you consider to be CBI or otherwise protected through www.regulations.gov or email. The www.regulations.gov Web site is an “anonymous access” system, which means EPA will not know your identity or contact information unless you provide it in the body of your comment. If you send an email comment directly to EPA without going through www.regulations.gov, your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the electronic docket are listed in the www.regulations.gov index. Although listed in the index, some information is not publicly available, i.e., CBI or other information whose disclosure is restricted by statute. Certain other material, such as copyrighted material, is not placed on the Internet and will be publicly available only in hard copy form. Publicly available docket materials are available either electronically in www.regulations.gov or in hard copy during normal business hours at the Air Protection Division, U.S. Environmental Protection Agency, Region III, 1650 Arch Street, Philadelphia, Pennsylvania 19103. Copies of the State submittal are available at the Maryland Department of the Environment, 1800 Washington Boulevard, Suite 705, Baltimore, Maryland 21230.

FOR FURTHER INFORMATION CONTACT: Mr. David Talley, (215) 814-2117, or by email at talley.david@epa.gov.

Dated: October 31, 2012.
W. C. Early,
Acting Regional Administrator, Region III.

[FR Doc. 2012-27977 Filed 11-15-12; 8:45 am]

BILLING CODE 6560-50-P